DEPARTMENT OF LABOR

Employment and Training Administration

[TA-W-53,239]

Acme Mills Co., Fairway Products, Quincy, Michigan, Now Located In Hillsdale, Michigan; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on November 3, 2003, applicable to workers of Acme Mills Company, Fairway Products, Quincy, Michigan. The notice was published in the Federal Register on November 28, 2003 (68 FR 66880).

At the request of a company official, the Department reviewed the certification for workers of the subject firm. The workers are engaged in the production of automotive parts, such as door panels, seat suspensions, die cut parts, headrests, armrest components, pull straps and visor straps.

New information shows that in January 2004, the subject firm relocated the remaining employees, equipment and machinery to a building owned by Acme in nearby Hillsdale.

Accordingly, the Department is amending this certification reflect the new location, Hillsdale, Michigan.

The intent of the Department's certification is to include all workers employed at Acme Mills Company, Fairway Products, who were adversely affected by a shift in production to Mexico.

The amended notice applicable to TA-W-53,239 is hereby issued as follows:

All workers of Acme Mills, Fairway Products, Quincy, Michigan, now located in Hillsdale, Michigan, who became totally or partially separated from employment on or after September 26, 2002, through November 3, 2005, are eligible to apply for adjustment assistance under section 223 of the Trade Act of 1974, and are also eligible to apply for alternative trade adjustment assistance under section 246 of the Trade Act of 1974.

Signed at Washington, DC, this 4th day of June, 2004.
Linda G. Poole,
Certifying Officer, Division of Trade Adjustment Assistance.

[FR Doc. 04-13388 Filed 6-14-04; 8:45 am]

BILLING CODE 4510-30-P